DEPARTMENT OF STATE

[Public Notice 4429]

Bureau of Near Eastern Affairs: Middle East Partnership Initiative (MEPI)

AGENCY: Department of State.

ACTION: Notice.

Introduction

The Office of Partnership Initiative (NEA/PI), announces an open competition for proposals for the production, distribution, and placement of Arabic-language early reading books throughout the Middle East. Multiple awards may be made from this announcement.

Purpose

The purpose of this program is to respond to the urgent need for options in primary and basic Arabic-language literacy for young Arabic-speaking readers in the Middle East. The primary objective is to provide access to Arabic-language reading materials for young readers, and provide accompanying preparatory teacher training and curriculum materials to maximize the effectiveness of the reading materials in the classroom.

Background

This program for Arabic reading books has evolved from the Bureau of Near Eastern Affairs, Office of Partnership Initiative, NEA/PI. NEA/PI coordinates the Middle East Partnership Initiative (MEPI). A primary component of MEPI is a focus on Education. To bridge the “knowledge gap,” MEPI seeks to improve the quality, quantity, and relevance of education in the Middle East (to include North Africa and the Gulf) through the implementation of programs that highlight, inter alia, improved digital readiness and increased literacy, especially for girls. More information about MEPI can be found at: http://www.state.gov/p/nea/rt/mepi.

In the context of the Education component of MEPI, President Bush announced plans to launch a major new effort to provide resources for the Arabic translation of early reading books for use in primary schools in the region. The program is intended to encourage independent reading, thinking, and analytical skills in young readers; train teachers; engage parents and local communities in the support of independent reading by young readers; and, provide sustainable resources for classrooms. This Notice seeks to initiate the MEPI Arabic-language early reading program, with a beginning focus on third and fourth (3rd and 4th) grades. Guiding parameters for proposals include that the program:

• Establish school-based libraries in approximately 5,000 schools in the Middle East.

• Each school to receive two libraries, one each for the 3rd and 4th grades.

• Each library to have 40 titles; five (5) copies of each title = 200 books.

• Each library to be accompanied by related teacher training programs and materials.

Books should be ready for placement in schools by January 1, 2004. All Arabic-language reading books should be of high-quality; titles and texts must be carefully vetted and translated to assure cultural appropriateness. Because the impact of this program should be deep and sustained, it is likely that the initial program plan will introduce early reading books in a handful of (TBD) countries in the Middle East. Proposals should, however, contemplate an expansion of the successful completion of this initial phase, and include budget and strategy plans for future years. The expansion must consider the growth of the initial project (3rd and 4th grades) into more schools and in more countries, and also possible program growth into higher grades. Successful applicants must demonstrate an ability to work throughout the Middle East and in the context of a broad range of contrasting political, religious, and cultural views.

Proposals must also address:

—Applicant's experience in working with foreign governments and in the Middle East.

—Cost-sharing by applicant (to include in-kind goods and services contributions such as discounts on U.S. retail prices of books, etc.).

—Explanation of the handling of copyright issues.

—An effective, timely, and cost-effective distribution system for the books throughout the region.

—Related teacher training programs and materials.

—Availability of accessory materials/opportunities for teachers, students, and parents (i.e., posters, take-home exercise, web-based/interactive programs.)

—Integrated roles for parental and community involvement.

—Program monitoring and evaluation standards and methods.

—Public Diplomacy/outreach activities to engage the public in the region.

—Variety of titles available.

—Process by which book titles and texts will be vetted for appropriateness (i.e., cultural and educational).

All products/services bought or produced as a result of this cooperative agreement must clearly acknowledge the U.S. Middle East Partnership Initiative (MEPI). Similarly, all related written materials, public statements/press or media releases or events must acknowledge MEPI. The grantee will also allow for Internet connectivity with the MEPI Web site.

Successful applicants will be expected to coordinate closely with the Department of State, NEA/PI, in the implementation of all aspects of this program.

The ideal applicant has extensive experience in the business of producing, publishing, and distributing children's reading books into classroom settings. In addition, the ideal applicant will have the tools and experience necessary to develop and implement a program that also engages teachers and parents, and has the flexibility to accommodate and meet the varying and changing levels of learning among young students. As a result of this project, Arabic-speaking children in the Middle East will gain greater access to recreational reading materials through which they will increase their overall literacy, independent thinking, and analytical skills. Teachers will have an enhanced understanding of the need for and a developed capacity to impart the values of independent, recreational reading. In addition, teachers will receive up-to-date training and materials.

Legislative Authority

The authorization for MEPI is Public Law 108-11, Emergency Wartime Supplemental Appropriations Act for Fiscal Year 2003, and chapter 4 of part II of the Foreign Assistance Act of 1961, as amended.

Eligible Applicants

Eligible applicants include all non-governmental institutions, private organizations, and commercial entities.

NEA encourages single applications from partnerships or consortia of more than one organization. In this context, NEA is defining partnership as a negotiated arrangement among organizations that provides for a substantive, collaborative role for each of the partners in the planning and implementation of the project. Applications that represent a coalition of providers should include a signed partnership agreement stating a commitment or an intent to commit or receive resources from the prospective partner(s) contingent upon receipt of funds. The agreement should state how the partnership arrangement relates to the objectives of the project. The applicant should also include: Supporting documentation identifying the resources, experience, and expertise of the partner(s); evidence that the partner(s) has been involved in the planning of the project; and a discussion of the role of the partner(s) in the implementation of the project.

Funding Availability—NEA expects to award at least $5.0 million in FY 2003 supplemental ESF through this announcement. NEA will award one or more cooperative agreements.

NEA reserves the right to award less, or more, than the funds described, in the absence of worthy applications, or under such other circumstances as may be deemed to be in the best interest of the government.

Project and Budget Periods—This announcement invites applications for project periods up to three years. Awards, on a competitive basis, will be for a the initial budget period although the full project may indicate Federal Assistance needs for additional budget periods up to three years total. Applications for continuation grants funded under these awards, beyond the initial budget period, but within the three-year project period, will be entertained on a noncompetitive basis, subject to availability of funds, satisfactory progress of the grantee and a determination that continued funding would be in the best interest of the Department of State.

Review Criteria

Eligible applications will be competitively evaluated according to the following criteria:

Results or Benefits Expected—The applicant clearly describes the results and benefits to be achieved. The applicant identifies how improvement will be measured on key indicators and provides milestones indicating progress. Proposed outcomes are tangible and achievable within the grant project period. (30 points)

Approach—The applicant must demonstrate that its strategy and plan are likely to achieve the proposed results; the proposed activities, including Public Diplomacy/outreach component, and timeframes are reasonable and feasible. The plan describes in detail how the proposed activities will be accomplished as well as the potential for the project to have a positive impact on the quality of education in the Middle East. (25 points)

Organization Profiles—Where collaborative partners are proposed, the applicant describes the rationale for the collaboration, each partner agency's respective role, and how the coalition will enhance the accomplishment of the project goals. In all cases, the applicant describes planning consultation efforts undertaken. The proposed coalition is appropriate with respective roles and financial responsibilities delineated. Evidence of commitment of coalition partners in implementing the activities is demonstrated, i.e., by letters or the terms of the signed agreement among participants. The applicant or coalition partners provide documented experience in performing the proposed services as well as adequate gender balance and constituent representation on the proposed project's advisory board. Assurance is provided that proposed services will be delivered in a manner that is linguistically and culturally appropriate to the target population. Individual organization staff including volunteers are well-qualified. The administrative and management features of the project, including a plan for fiscal and programmatic management of each activity, is described in detail with proposed start-up times, ongoing timelines, major milestones or benchmarks, a component/project organization chart, and a staffing chart. (25 points)

Budget and Budget Justification—The budget and narrative justification are reasonable in relation to the proposed activities and anticipated results and the plan for services is realistic. (20 points)

Application/Proposal Submission and Deadline

An application (Standard Form 424) with an original signature and two clearly identified copies is required. The application form (Standard Form 424) and instructions can be obtained from either:

(1) the following Web sites:

http://www.whitehouse.gov/omb/grants/#forms

http://www.usaid.gov/procurement_bus_opp/procurement/forms/SF-424/

(2) Anna Mary Portz, Grants Officer, U.S. Department of State, NEA/PI Room 4241, 2201 C Street NW., Washington, DC, 20520, telephone (202) 647-6111, fax (202) 736-4464, e-mail portzam,@state.gov.

Application materials must be submitted to the U.S. Department of State, Anna Mary Portz, Grants Officer, NEA/PI, Room 4241, 2201 C Street NW., Washington, DC, 20520 on or before close of business (4:30 p.m. EST) August 15, 2003. Due to delays in regular mail delivery to the State Department, applicants are strongly encouraged to hand-carry or use couriers to deliver applications to NEA/PI, between the hours of 8:30 a.m.-4:30 p.m., to the attention of Anna Mary Portz. Express or overnight mail services may also be used, though applicants are cautioned that express/overnight mail services do not always deliver as agreed and other delays may occur until regular mail delivery is resumed.

Applicants must also provide an electronic copy of the proposal by e-mail to Anna Mary Portz, Grants Officer at e-mail address portzam@state.gov. Proposals must be submitted in both hard copy and by e-mail; proposals submitted only by e-mail, or only in hard copy, will not be considered. The Grants Officer must be aware that the proposal is on its way, or the package risks being considered late or turned away by Diplomatic Security.

Applications submitted by e-mail and either (1) mail (including express mail or overnight mail services), or (2) hand-carried by applicant couriers or by other representatives of the applicant, shall be considered as meeting an announced deadline if they are received on or before close of business (4:30 p.m. EST) August 15, 2003.

Late Applications

Applications received after the closing date and time will be classified as late. Applications which do not meet the criteria above are considered late applications. NEA/PI shall notify each late applicant that its application will not be considered in the current competition.

General Instructions for Preparing a Full Project Description

The project description provides a major means by which an application is evaluated and ranked to compete with other applications for available assistance. The project description should be concise and complete and should address the activity for which Federal funds are being requested. Supporting documents should be included where they can present information clearly and succinctly. Applicants are encouraged to provide information on their organizational structure, staff, related experience, and other information considered relevant. Awarding offices use this and other information to determine whether the applicant has the capability and resources necessary to carry out the proposed project. It is important, therefore, that this information be included in the application. However, in the narrative the applicant must distinguish between resources directly related to the proposed project from those that will not be used in support of the specific project for which funds are requested.

Length of Applications

Each application narrative should not exceed 25 double-spaced pages in a 12-pitch font. Attachments and appendices should not exceed 25 pages and should be used only to provide supporting documentation such as administration charts, position descriptions, resumes, and letters of intent or partnership agreements. Each page should be numbered sequentially, including the attachments or appendices. This limitation of 25 pages plus the SF 424 should be considered as a maximum, and not necessarily a goal.

Reporting Requirement

Quarterly progress and financial reports are required for all funded projects. One-page, web-ready summaries of each program, for posting on MEPI-related sites, are due, updated, on a quarterly basis. Final reports, including an assessment of the impact of the project in the context of MEPI goals/objectives, will be due 90 days after end of project period.

Where To Obtain Additional Information

Questions regarding this Request for Proposals should be directed to Anna Mary Portz, Grants Officer, Department of State, NEA/PI, Room 4241, 2201 C Street NW., Washington, DC 20520, telephone (202) 647-5281, fax (202) 736-4464, e-mail portzam,@state.gov.

Dated: July 29, 2003.
Alina L. Romanowski,
Director, Office of the Middle East Partnership Initiative, Bureau of Near Eastern Affairs, Department of State.

[FR Doc. 03-19632 Filed 7-31-03; 8:45 am]

BILLING CODE 4710-31-P